DEPARTMENT OF TRANSPORTATION

Federal Aviation Administration

14 CFR Part 39

[Docket No. FAA-2015-4381; Directorate Identifier 2015-SW-009-AD;Amendment 39-18428; AD 2016-05-10]

RIN 2120-AA64

Airworthiness Directives; Airbus Helicopters

AGENCY: Federal Aviation Administration (FAA), Department of Transportation (DOT).

ACTION: Final rule; request for comments.

SUMMARY: We are adopting a new airworthiness directive (AD) for Airbus Helicopters Model AS 365 N3, EC 155B, and EC155B1 helicopters with certain external life rafts. This AD requires installing a sheath kit on the left-hand and right-hand raft deployment control systems. This AD is prompted by a report that the life raft deployment control could not be adjusted due to problems with the life raft deployment linkage. This unsafe condition, if not corrected, could result in failure of the external life raft to deploy and prevent evacuation of passengers during an emergency.

DATES: This AD becomes effective March 28, 2016.

The Director of the Federal Register approved the incorporation by reference of certain documents listed in this AD as of March 28, 2016.

We must receive comments on this AD by May 10, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-4381; or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177. It is also on the Internet at http://www.regulations.gov by searching for and locating Docket No. FAA-2015-4381.

FOR FURTHER INFORMATION CONTACT: David Hatfield, Aviation Safety Engineer, Safety Management Group, Rotorcraft Directorate, FAA, 10101 Hillwood Pkwy, Fort Worth, TX 76177; telephone (817) 222-5116; email david.hatfield@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued EASA AD No. 2015-0048, dated March 17, 2015, to correct an unsafe condition for Airbus Helicopters Model AS 365 N3, EC 155B, and EC155B1 helicopters. EASA advises that after installation of a new life raft on a helicopter, the travel of the life raft deployment control could not be properly adjusted, putting at risk proper life raft inflation. According to a technical analysis, the varying positions of the life raft inflation cylinder inside the bag containing the life raft, as well as the varying positions of the bag within the life raft container, may cause the life raft deployment control cable to loosen and travel insufficiently.

This condition could result in failure of the external life raft to deploy after a ditching, impeding or preventing the safe evacuation of helicopter occupants, EASA states. EASA consequently requires alteration of the life raft deployment control by installing a sheath kit, which Airbus Helicopters identifies as Modification 365A084711.00 and 365A084711.01.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information Under 1 CFR Part 51

We reviewed Airbus Helicopters Alert Service Bulletin (ASB) No. AS365-25.01.45 and ASB No. EC155-25A128, both Revision 1, and both dated February 2, 2015. The service information reports that the position of the life raft inflation cylinder may slacken the deployment control cable for new life rafts installed on Model AS 365 N3, EC 155B, and EC155B1 helicopters. In one instance, travel of the life raft deployment control could not be adjusted as stated in the maintenance manual. This anomaly is due to the varying positions of the inflation cylinder inside the bag that contains the life raft, and the varying positions of the bag inside the container, related to the installation and removal of optional equipment, calendar overhauls, life raft storage, shock impacts, and in-flight vibrations. Airbus Helicopters consequently developed modification 365A084711.00 and 365A084711.01, which ensure sufficient travel of the life raft deployment control cable in all positions of the inflation cylinder by installing an improved sheath kit on the left hand and right hand deployment controls.

This service information is reasonably available because the interested parties have access to it through their normal course of business or by the means identified in the ADDRESSES section.

AD Requirements

This AD requires, before the next flight over water, installing a sheath kit on the left-hand and right-hand raft deployment controls.

Differences Between This AD and the EASA AD

The EASA AD requires installing a sheath kit on the left-hand and right-hand raft deployment controls within 110 hours time-in-service or before further flight for helicopters required to have life rafts, whichever occurs later. This AD requires installing a sheath kit on the left-hand and right-hand raft deployment controls before the next flight over water.

Costs of Compliance

We estimate that this proposed AD affects 23 helicopters of U.S. Registry and that labor costs average $85 per work-hour. Based on these estimates, we expect that installing the sheath kits requires 4 work-hours and a parts cost of $50 for a total cost of $390 per helicopter and $8,970 for the U.S. fleet.

FAA's Justification and Determination of the Effective Date

Providing an opportunity for public comments prior to adopting these AD requirements would delay implementing the safety actions needed to correct this known unsafe condition. Therefore, we find that the risk to the flying public justifies waiving notice and comment prior to the adoption of this rule because many of the affected helicopters are located along major waterways, and the required corrective actions must be accomplished before the next flight over water.

Since an unsafe condition exists that requires the immediate adoption of this AD, we determined that notice and opportunity for prior public comment before issuing this AD are impracticable and contrary to the public interest and that good cause exists to make this AD effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-05-10 Airbus Helicopters: Amendment 39-18428; Docket No. FAA-2015-4381; Directorate Identifier 2015-SW-009-AD.

(a) Applicability

This AD applies to Airbus Helicopters Model AS 365 N3, EC 155B, and EC155B1 helicopters with an external life raft part number 245431-0, 245431-1, 245434-0, or 245434-1 installed, certificated in any category.

(b) Unsafe Condition

This AD defines the unsafe condition as an external life raft's failure to deploy. This condition could prevent the safe evacuation of helicopter occupants during an emergency landing in water.

(c) Effective Date

This AD becomes effective March 28, 2016.

(d) Compliance

You are responsible for performing each action required by this AD within the specified compliance time unless it has already been accomplished prior to that time.

(e) Required Actions

Before the next flight over water, install a sheath kit on each left-hand and right-hand life raft deployment control in accordance with the Accomplishment Instructions, paragraph 3.B.2, of Airbus Helicopters Alert Service Bulletin (ASB) No. AS365-25.01.45, Revision 1, dated February 2, 2015, or ASB No. EC155-25A128, Revision 1, dated February 2, 2015, whichever is applicable to your helicopter.

(f) Alternative Methods of Compliance (AMOCs)

(1) The Manager, Safety Management Group, FAA, may approve AMOCs for this AD. Send your proposal to: David Hatfield, Aviation Safety Engineer, Safety Management Group, Rotorcraft Directorate, FAA, 10101 Hillwood Pkwy, Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2015-0048, dated March 17, 2015. You may view the EASA AD on the Internet at http://www.regulations.gov by searching for and locating it in Docket No. FAA-2015-4381.

(h) Subject

Joint Aircraft Service Component (JASC) Code: Life Raft, 2564.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin No. AS365-25.01.45, Revision 1, dated February 2, 2015.

(ii) Airbus Helicopters Alert Service Bulletin No. EC155-25A128, Revision 1, dated February 2, 2015.

(3) For Airbus Helicopters service information identified in this final rule, contact Airbus Helicopters, 2701 N. Forum Drive, Grand Prairie, TX 75052; telephone (972) 641-0000 or (800) 232-0323; fax (972) 641-3775; or at http://www.airbushelicopters.com/techpub.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on February 29, 2016.
Scott A. Horn,
Acting Manager, Rotorcraft Directorate, Aircraft Certification Service.

[FR Doc. 2016-04981 Filed 3-10-16; 8:45 am]

BILLING CODE 4910-13-P